DEPARTMENT OF COMMERCE

International Trade Administration

[A-580-841]

Structural Steel Beams From the Republic of Korea; Final Results of Antidumping Duty Administrative Review

AGENCY: Import Administration, International Trade Administration, Department of Commerce.

ACTION: Notice of final results of antidumping duty administrative review of structural steel beams from the Republic of Korea.

SUMMARY: On September 9, 2003, the Department of Commerce (“the Department”) published in the Federal Register the preliminary results of its administrative review of the antidumping duty order on structural steel beams from the Republic of Korea (68 FR 53129). This review covers imports of subject merchandise from Dongkuk Steel Mill Co., Ltd. (“DSM”) and INI Steel Company (“INI”). The period of review (“POR”) is August 1, 2001 through July 31, 2002.

Based on our analysis of the comments received, we have made changes in the margin calculations to DSM. Therefore, the final results differ from the preliminary results of review. The final weighted-average dumping margin for both DSM and INI is listed below in the section entitled “Final Results of the Review.”

EFFECTIVE DATE: February 13, 2004.

FOR FURTHER INFORMATION CONTACT: Aishe Allen (DSM) and Michael Holton (INI), Enforcement Group III—Office 9, Import Administration, International Trade Administration, U.S. Department of Commerce, 14th and Constitution Avenue, NW., Washington, DC 20230; telephone: (202) 482-0172 and (202) 482-1324, respectively.

SUPPLEMENTARY INFORMATION:

Background

On September 9, 2003, the Department published its preliminary results of Structural Steel Beams From the Republic of Korea: Preliminary Results of Antidumping Duty Administrative Review for Structural Steel Beams From the Republic of Korea, 68 FR 53129 (September 9, 2003) (“Preliminary Results”).

We invited parties to comment on our preliminary results of review. We received written comments on October 24, 2003, from petitioners, DSM and INI. On October 30, 2003, we received rebuttal comments from petitioners, DSM and INI. We have now completed the administrative review in accordance with section 751 of the Tariff Act of 1930, as amended (“the Act”).

Scope of the Review

The products covered by this investigation are doubly-symmetric shapes, whether hot- or cold-rolled, drawn, extruded, formed or finished, having at least one dimension of at least 8 mm (3.2 inches or more), whether of carbon or alloy (other than stainless) steel, and whether or not drilled, punched, notched, painted, coated or clad. These products include, but are not limited to, wide-flange beams (“W” shapes), bearing piles (“HP” shapes), standard beams (“S” or “I” shapes), and M-shapes.

All products that meet the physical and metallurgical descriptions provided above are within the scope of this investigation unless otherwise excluded. The following products are outside and/or specifically excluded from the scope of this investigation: structural steel beams greater than 400 pounds per linear foot or with a web or section height (also known as depth) over 40 inches.

The merchandise subject to this investigation is classified in the Harmonized Tariff Schedule of the United States (“HTSUS”) at subheadings: 7216.32.0000, 7216.33.0030, 7216.33.0060, 7216.33.0090, 7216.50.0000, 7216.61.0000, 7216.69.0000, 7216.91.0000, 7216.99.0000, 7228.70.3040, 7228.70.60000. Although the HTSUS subheadings are provided for conveniences and Customs purposes, the written description of the merchandise is dispositve.

Analysis of Comments Received

All issues raised in the case and rebuttal briefs by parties to this administrative review are addressed in the “Issues and Decision Memorandum” (“Decision Memorandum”) from Joseph A. Spetrini, Deputy Assistant Secretary, Import Administration, Group III, to James J. Jochum, Assistant Secretary for Import Administration, dated February 6, 2004, which is hereby adopted by this notice. A list of the issues which parties have raised and to which we have responded, all of which are in the Decision Memorandum, is attached to this notice as an Appendix. Parties can find a complete discussion of all issues raised in this review and the corresponding recommendations in this public memorandum which is on file in the Central Records Unit, Room B-099 of the main Department building. In addition, a complete version of the Decision Memorandum can be accessed directly on the Web at http://ia.ita.doc.gov/. The paper copy and electronic version of the Decision Memorandum are identical in content.

Sales Below Cost

We disregarded sales below cost for both DSM and INI during the course of the review. See Preliminary Results.

Changes Since the Preliminary Results

Based on our analysis of comments received, we have made changes in the margin calculations for DSM. The changes to the margin calculations are listed below:

DSM

• For the final results, we revised indirect selling expenses for DSM's affiliated company in Korea, Dongkuk Industries Company, (“DKI”), by applying DKI's indirect selling expense ratio to the correct gross unit price. We calculated the ratio by dividing DKI's selling expenses by its total sales value, the resulting ratio was then applied to an amount corresponding to DKI's sales value. The sales value amount was calculated by adding entered value and international freight for each transaction.

Final Results of Review

We determine that the following percentage margin exists for the period August 1, 2001 through July 31, 2002:

Structural Steel Beams From Korea
Manufacturer/exporter/reseller | Margin (percent)
DSM | 0.04
INI | 4.15

Assessment Rates

The Department will determine, and U.S. Customs and Border Protection (“Customs”) shall assess, antidumping duties on all appropriate entries. In accordance with 19 CFR 351.212(b)(1), we have calculated an exporter/importer (or customer)-specific assessment rate for merchandise subject to this review. The Department will issue appraisement instructions directly to Customs within 15 days of publication of these final results of review. We will direct Customs to assess the resulting assessment rates against the entered customs values for the subject merchandise on each of the importer's/customer's entries during the review period.

Cash Deposit Requirements

The following of deposit requirements will be effective upon publication of this notice of final results of administrative review for all shipments of structural steel beams from the Republic of Korea entered, or withdrawn from warehouse, for consumption on or after the date of publication, as provided by section 751(a)(1) of the Act: (1) The cash deposit rate for each of the reviewed companies will be the rate listed above (except that if the rate for a particular product is de minimis, i.e., less than 0.5 percent, no cash deposit will be required for the company) see 19 CFR 351.106(c)(1); (2) for previously investigated or reviewed companies not listed above, the cash deposit rate will continue to be the company-specific rate published for the most recent period; (3) if the exporter is not a firm covered in this review, a prior review, or the original less than fair value (“LTFV”) investigation, but the manufacturer is, the cash deposit rate will be the rate established for the most recent period for the manufacturer of the merchandise; and (4) the cash deposit rate for all other manufacturers or exporters will continue to be the “all others” rate of 37.21 percent, which is the all others rate established in the LTFV investigation.

These deposit requirements shall remain in effect until publication of the final results of the next administrative review.

Notification of Interested Parties

This notice also serves as a final reminder to importers of their responsibility under 19 CFR 351.402(f)(2) to file a certificate regarding the reimbursement of antidumping duties or countervailing duties prior to liquidation of the relevant entries during this review period. Failure to comply with this requirement could result in the Secretary's presumption that reimbursement of the antidumping duties or countervailing duties occurred and the subsequent assessment of double antidumping duties or countervailing duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) and 771(i) of the Act.

Dated: February 6, 2004.
James J. Jochum,
Assistant Secretary for Import Administration.

Appendix 1—Issues in the Decision Memorandum

Comment 1: INI's Sales Outside of Ordinary Course of Trade

Comment 2: DSM's Sales Outside of Ordinary Course of Trade

Comment 3: DSM's Affiliation with DKI

Comment 4: DSM's Indirect Selling Expenses

[FR Doc. 04-3255 Filed 2-12-04; 8:45 am]

BILLING CODE 3510-DS-M